Title 3—

The President

Proclamation 10102 of October 14, 2020

Blind Americans Equality Day, 2020

By the President of the United States of America

A Proclamation

On Blind Americans Equality Day, we recognize the valuable contributions of our fellow Americans who are blind or visually impaired. These individuals enrich our national economy and culture through their determination, courage, and strength. Today, we reflect on the progress our Nation has made in removing barriers that have prevented the full participation of blind and visually impaired persons in our society, and we reaffirm our unwavering commitment to defending the inherent dignity of all Americans.

This Blind Americans Equality Day is particularly notable as we mark the 100th anniversary of the Federal Vocational Rehabilitation (VR) program, which empowers individuals with disabilities to pursue competitive employment opportunities consistent with their abilities, interests, and strengths. Through the training and skills gained in the VR program, individuals who are blind or visually impaired can more readily enter the American workforce. We are also proud to celebrate this year the 45th anniversary of the Individuals with Disabilities Education Act and the 30th anniversary of the Americans with Disabilities Act. These landmark pieces of legislation forever changed our society by protecting in law persons with disabilities against discrimination and further promoting their full inclusion in American life.

Persons with visual impairments strengthen our communities with their skill and talent across a wide range of professions and industries. My Administration will continue to support programs that combat the stigmas that make it difficult for persons who are blind or visually impaired to find employment. I recently signed an Executive Order on Continuing the National Council for the American Worker and the American Workforce Policy Advisory Board, which is strengthening powerful programs I established in 2018 and provides even more workers of all abilities with tools to secure sustained employment and economic self-sufficiency. By promoting the recruitment of underutilized populations, blind and visually impaired persons are among the direct beneficiaries from these initiatives. As we continue to reopen our economy, we also celebrate the success of the more than 1,800 small businesses operating under the Randolph-Sheppard Act of 1936, which facilitates the entrepreneurial aspirations of the blind and visually impaired. These efforts have helped individuals with disabilities to reach their full potential and achieve their dreams.

By joint resolution approved on October 6, 1964 (Public Law 88-628), the Congress authorized the President to designate October 15 of each year as “White Cane Safety Day,” now known as “Blind Americans Equality Day,” to recognize the contributions of Americans who are blind or have impaired vision. Today, and every day, we will continue our efforts to ensure and champion the full and active participation of all Americans, including blind or visually impaired Americans, in every facet of our society.

NOW, THEREFORE, I, DONALD J. TRUMP, President of the United States of America, by virtue of the authority vested in me by the Constitution and the laws of the United States, do hereby proclaim October 15, 2020, as Blind Americans Equality Day, to celebrate and recognize the accomplishments and contributions of Americans who are blind or visually impaired. I call upon all Americans to observe this day with appropriate ceremonies and activities to reaffirm our commitment to achieving equality for all Americans.

IN WITNESS WHEREOF, I have hereunto set my hand this fourteenth day of October, in the year of our Lord two thousand twenty, and of the Independence of the United States of America the two hundred and forty-fifth.

[FR Doc. 2020-23246

Filed 10-16-20; 11:15 am]

Billing code 3295-F1-P